DEPARTMENT OF THE INTERIOR

Office of Surface Mining Reclamation and Enforcement

[S1D1S SS08011000 SX064A000 245S180110; S2D2S SS08011000 SX064A000 24XS501520]

Notice of Availability of the Draft Environmental Impact Statement for Navajo Transitional Energy Company's Federal Mining Plan Modification for Federal Lease MTM 94378; Spring Creek Mining Plan Modification EIS

AGENCY: Office of Surface Mining Reclamation and Enforcement.

ACTION: Notice of availability of the draft environmental impact statement.

SUMMARY: The Office of Surface Mining Reclamation and Enforcement (OSMRE) is publishing this notice to announce that it has prepared a Draft Environmental Impact Statement (DEIS) for Navajo Transitional Energy Company's (NTEC) Lease by Application (LBA) 1 Federal Mining Plan Modification for Federal Lease MTM-94378 (the Project). With this notice, OSMRE also announces that it will hold a public meeting and 45-day public comment period to receive comments on the DEIS. Spring Creek Mine (SCM) is located in Big Horn County, Montana, approximately 32 miles from Sheridan, Wyoming. SCM started operation in 1974. The proposed Project would allow 162.5 acres of additional surface disturbance and recovery of an additional 39.9 million tons (Mt) of Federal coal.

DATES: OSMRE requests comments concerning the analyses in the DEIS. All comments must be received by October 22, 2024. The public meeting will be held at the Big Horn County Courthouse, Hardin, MT from 5—8 p.m. MST on September 24, 2024.

ADDRESSES:

You may submit comments related to the Project by any of the following methods:

• Email: SCM_LBA1_EIS@wwcengineering.com

• Mail: ATTN: Spring Creek Mining Plan Modification EIS, C/O: Marcelo Calle, OSMRE Western Regions 5, 7-11, P.O. Box 25065, Lakewood, CO 80225-0065

FOR FURTHER INFORMATION CONTACT: Marcelo Calle, Program Support Division Manager; telephone (303) 236-2929; email: mcalle@osmre.gov or at the address and email provided in the ADDRESSES section.

Individuals who use telecommunication devices for the deaf (TDD) may call the Federal Information Relay Service (FIRS) at 1-800-877-8339 between 8 a.m. and 8 p.m., Eastern Time, Monday through Friday.

SUPPLEMENTARY INFORMATION: OSMRE has prepared a DEIS for SCM's LBA 1 Mining Plan Modification for inclusion in its decision document recommending approval, disapproval, or conditional approval of the mining plan to the Secretary. 30 CFR 746.13. In accordance with the Mineral Leasing Act of 1920 (MLA), the Assistant Secretary for Land and Minerals Management (ASLM) at the Department of the Interior must approve, disapprove, or approve the project with conditions because the project contains lands with leased Federal coal associated with MTM-94378.

OSMRE initially published an environmental assessment (EA) for LBA 1 on October 3, 2016. This EA was challenged, and the United States District Court for the District of Montana held in WildEarth Guardians v. Haaland, No. CV 17-80-BLG-SPW (D. Mont. 2021), that the EA failed to take a hard look at indirect and cumulative effects of diesel emissions, noise, vibrations, and coal dust emissions; indirect effects of non-greenhouse gas from downstream combustion emissions; and effects related to the social costs of greenhouse gases. This DEIS updates and expands on the environmental analysis in the 2016 EA and provides the additional impacts analysis identified as deficient by the district court.

The SCM is operated by NTEC under Permit SMP C1979012, issued by the Montana Department of Environmental Quality (MDEQ), in accordance with its state mine permit. As proposed, the Project would allow 162.5 acres of additional surface disturbance and recovery of an additional 39.9 Mt of Federal coal. The final environmental impact statement is scheduled for release in December 2024 with the Record of Decision expected to be completed in January 2025.

Purpose and Need for the Proposed Action:

OSMRE's purpose in preparing this DEIS is to fully analyze the environmental impacts from the Federal mining plan modification, with particular attention to addressing the deficiencies identified by the district court, so that OSMRE can make a recommendation to the ASLM to approve, disapprove, or conditionally approve the proposed Federal mining plan modification for LBA 1. NTEC, the current operator, will not be able to access or recover the remaining Federal coal in the LBA 1 tracts unless OSMRE completes its NEPA analysis and the ASLM approves the Federal mining plan modification.

Proposed Project

The proposed Project would allow 162.5 acres of additional surface disturbance and the recovery of an additional 39.9 Mt of Federal coal in the LBA1 tracts.

Summary of Expected Impacts

Reasonably foreseeable effects of mining Federal coal have been evaluated for the following resources in the DEIS:

• Air Quality (measured as concentration of criteria air pollutants regulated under the National Ambient Air Quality Standards, Hazardous Air Pollutants, and Air Quality Related Values such as visibility (haze) and atmospheric deposition)

• Emissions of greenhouse gases as they relate to climate change, measured in terms of carbon dioxide equivalent for both 20-year and 100-year global warming potentials

• Surface water and groundwater quality and quantity

• Socio-economic effects, including changes to state and local taxes, royalties, fees, lease bids and bonuses, as well as payroll benefits as well as effects to Environmental Justice populations

• Federally listed threatened/endangered species

• Geology

• Soils

• Cultural Resources

• Visual Resources

• Wildlife

Anticipated Permits and Authorizations

None at this time.

Schedule for the Decision-Making Process

The Department plans to have the Record of Decision signed in January 2025.

Public Comment Period

This notice of availability initiates the comment period, which allows the agency to gather input on the analyses included in the DEIS. In addition to this notice and the project web page on OSMRE's website at https://www.osmre.gov/lrg/projects/SpringCreek.shtm, interested stakeholders, agencies, and Tribes will be notified of the 45-day comment period via mailed letters.

All public comments must be submitted by email or by hard copy mail to the addresses listed under ADDRESSES. Before including your address, phone number, email address, or other personal identifying information in your comment, you should be aware that your entire comment—including your personal identifying information—may be made public at any time. While you may request in your comment to withhold your personal identifying information from public review, OSMRE cannot guarantee that this will occur.

The project page will include the description of the Project as submitted by NTEC, a map of the proposed mine plan, and information about how to submit public comment on issues or concerns related to the Project that are analyzed in the NEPA document.

OSMRE will review public comments and prepare formal responses to all substantive comments. OSMRE will make revisions as needed based on input from the public while preparing the final EIS.

Lead and Cooperating Agencies

OSMRE is the lead agency for this EIS. No agencies indicated an interest in being a cooperating agency on the OSMRE EIS.

Decision Maker

Assistant Secretary of Land and Minerals Management

Nature of Decision To Be Made

Informed by the NEPA analysis, OSMRE will make a recommendation to the ASLM about the Federal mining plan modification associated with development of the LBA 1 Federal coal tracts. The ASLM will use OSMRE's recommendation to decide whether the new mining plan modification is approved, disapproved, or approved with conditions. OSMRE's recommendation to the ASLM is based, at a minimum, on the documentation specified at 30 CFR 746.13.

Marcelo Calle,
Acting OSMRE Regional Director, Regions 5, 7-11.

[FR Doc. 2024-19844 Filed 9-3-24; 8:45 am]

BILLING CODE 4310-05-P